FEDERAL COMMUNICATIONS COMMISSION

47 CFR Part 73

[DA 11-867; MB Docket No. 11-87; RM-11628]

Radio Broadcasting Services; Bastrop, LA

AGENCY: Federal Communications Commission.

ACTION: Proposed rule.

SUMMARY: This document requests comments on a petition for rulemaking filed by Kenneth W. Diebel, licensee of FM Station KGGM, Channel 228A, Delhi, Louisiana, proposing the substitution of FM Channel 228A for vacant FM Channel 230A at Bastrop, Louisiana. The proposed substitution of Channel 228A at Bastrop accommodates the hybrid application, which requests the substitution of Channel 230C3 for Channel 228A at Delphi, Louisiana. See File No. BNPH-20110214ADS. A staff engineering analysis indicates that Channel 228A can be allotted to Bastrop consistent with the minimum distance separation requirements of the Rules, with a site restriction 5.3 kilometers (3.3 miles) northeast of the community. The reference coordinates are 32-48-20 NL and 91-52-05 WL. See Supplementary Information, supra.

DATES: Comments must be filed on or before July 5, 2011, and reply comments on or before July 20, 2011.

ADDRESSES: Secretary, Federal Communications Commission, 445 Twelfth Street, SW., Washington, DC 20554. In addition to filing comments with the FCC, interested parties should serve the petitioner as follows: Kenneth W. Diebel, 414 Ineichen Street, Rayville, Louisiana 71269.

FOR FURTHER INFORMATION CONTACT: Deborah A. Dupont, Media Bureau, (202) 418-7072.

SUPPLEMENTARY INFORMATION: This is a synopsis of the Commission's Notice of Proposed Rule Making, MB Docket No.11-87, adopted May 11, 2011, and released May 13, 2011. The full text of this Commission decision is available for inspection and copying during normal business hours in the FCC's Reference Information Center at Portals II, CY-A257, 445 Twelfth Street, SW., Washington, DC 20554. This document may also be purchased from the Commission's duplicating contractors, Best Copy and Printing, Inc., 445 12th Street, SW., Room CY-B402, Washington, DC 20554, telephone 1-800-378-3160 or via e-mail http://www.BCPIWEB.com. This document does not contain proposed information collection requirements subject to the Paperwork Reduction Act of 1995, Public Law 104-13. In addition, therefore, it does not contain any proposed information collection burden “for small business concerns with fewer than 25 employees,” pursuant to the Small Business Paperwork Relief Act of 2002, Public Law 107-198, see 44 U.S.C. 3506(c)(4).

Channel 230A is not listed in the FM Table of Allotments. We note that vacant Channel 230A at Bastrop was inadvertently removed from the FM Table of Allotments in MB Docket 05-210. See 71 FR 76208, published December 20, 2006. Channel 230A was originally added to the FM Table of Allotments in MM Docket No. 99-141. See 66 FR 18734, published April 11, 2001. In this regard, Channel 230A is a vacant allotment due to the cancellation of the Station KTRY-FM license. See BLH-6141. The cancellation of the Station KTRY-FM license is under reconsideration.

Provisions of the Regulatory Flexibility Act of l980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Radio, Radio broadcasting.

Federal Communications Commission.
Nazifa Sawez,
Assistant Chief, Audio Division, Media Bureau.

For the reasons discussed in the preamble, the Federal Communications Commission proposes to amend 47 CFR Part 73 as follows:

Part 73—Radio Broadcast Services

1. The authority citation for part 73 continues to read as follows:

Authority: 47 U.S.C. 154, 303, 334, 336 and 339.

§ 73.202 [Amended]

2. Section 73.202(b), the Table of FM Allotments under Louisiana, is amended by adding Bastrop, Channel 228A.

[FR Doc. 2011-15897 Filed 6-23-11; 8:45 am]

BILLING CODE 6712-01-P